ENVIRONMENTAL PROTECTION AGENCY

40 CFR Part 141

[FRL-7157-4]

Unregulated Contaminant Monitoring Regulation for Public Water Systems; Establishment of Reporting Date

AGENCY: Environmental Protection Agency.

ACTION: Proposed rule.

SUMMARY: This action proposes to establish August 9, 2002, as a new, later date by which large public water systems serving more than 10,000 persons must report all contaminant monitoring laboratory results they receive before May 13, 2002, for the unregulated contaminant monitoring Regulation (UCMR) monitoring program. Monitoring results received on or after May 13, 2002, would have to be reported within 30 days following the month in which laboratory results are received, as specified in the current regulation for this program.

DATES: Comments must be received in writing by April 11, 2002.

ADDRESSES: Please send an original and three copies of your comments and enclosures (including references) to docket number W-00-01-IV, Comment Clerk, Water Docket (MC4101), USEPA, 1200 Pennsylvania Ave., NW Washington, DC 20460. Due to the uncertainty of mail delivery in the Washington DC area, in order to ensure that your comments are received, please also send a separate copy of your comments to Greg Carroll, USEPA, 26 West Martin Luther King Drive, MC-140, Cincinnati, Ohio 45268. Hand deliveries should be delivered to EPA's Water Docket at 401 M. St., Room EB57, Washington, DC. Commenters who want EPA to acknowledge receipt of their comments should enclose a self-addressed, stamped envelope. No facsimiles (faxes) will be accepted. Comments may also be submitted electronically to ow-docket@epamail.epa.gov. Electronic comments must be submitted as a Word Perfect (WP), WP5.1, WP6.1 or WP8 file or as an ASCII file avoiding the use of special characters and forms of encryption. Electronic comments must be identified by the docket number W-00-01-IV. Comments and data will also be accepted on disks in WP 5.1, 6.1, 8 or ASCII file format. Electronic comments on this proposed rule may be filed online at many Federal Depository Libraries.

The record for this proposed rulemaking has been established under docket number W-00-01-IV and includes supporting documentation as well as printed, paper versions of electronic comments. The record is available for inspection from 9 to 4 p.m., Monday through Friday, excluding legal holidays at the Water Docket, EB 57, USEPA Headquarters, 401 M. St., SW, Washington, DC. For access to docket materials, please call 202/260-3027 to schedule an appointment.

FOR FURTHER INFORMATION CONTACT: Jeffrey Bryan (202) 564-3942, Drinking Water Protection Division, Office of Ground Water and Drinking Water (MC-4606-M), U.S. Environmental Protection Agency, 1200 Pennsylvania Avenue, NW., Washington, DC 20460. General information about UCMR may be obtained from the EPA Safe Drinking Water Hotline at (800) 426-4791. The Hotline operates Monday through Friday, excluding Federal holidays, from 9 a.m. to 5:30 p.m. ET.

SUPPLEMENTARY INFORMATION: EPA is proposing to approve a revision to the UCMR for Public Water Systems. In the “Rules and Regulations” section of today's Federal Register, EPA is approving a revision to the Unregulated Contaminant Monitoring Regulation for Public Water Systems as a direct final rule without prior proposal because EPA views this as noncontroversial revision and anticipates no adverse comment. EPA has explained our reasons for this approval in the preamble to the direct final rule. If EPA receives no adverse comment, it will not take further action on this proposed rule. If EPA receives adverse comment, the Agency will withdraw the direct final rule and it will not take effect. EPA would then address all public comments in a subsequent final rule based on this proposed rule. EPA will not institute a second comment period on this action. Any parties interested in commenting must do so at this time. For further information, please see the information provided in the direct final rule titled “Unregulated Contaminant Monitoring Regulation for Public Water Systems; Establishment of Reporting Date” that is located in the “Rules and Regulations” section of this Federal Register publication. For the various statutes and executive orders that require findings for rulemaking, EPA incorporates the findings from the direct final rule into this companion proposal for the purpose of providing public notice and opportunity for comment.

List of Subjects in 40 CFR Part 141

Environmental protection, Chemicals, Indian lands, Intergovernmental relations, Radiation protection, Reporting and recordkeeping requirements, Water supply.

Dated: March 7, 2002.
Christine Todd Whitman,
Administrator.

[FR Doc. 02-6017 Filed 3-11-02; 8:45 am]

BILLING CODE 6560-50-P